SMALL BUSINESS ADMINISTRATION

[Disaster Declaration #13387 and #13388]

Rhode Island Disaster #RI-00010

AGENCY: U.S. Small Business Administration.

ACTION: Amendment 1.

SUMMARY: This is an amendment of the Presidential declaration of a major disaster for the State of Rhode Island (FEMA-4089-DR), dated 11/14/2012.

Incident: Hurricane Sandy.

Incident Period: 10/26/2012 through 10/31/2012.

Effective Date: 01/14/2013.

Physical Loan Application Deadline Date: 02/13/2013.

EIDL Loan Application Deadline Date: 08/14/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Rhode Island, dated 11/14/2012 is hereby amended to extend the deadline for filing applications for physical damages as a result of this disaster to 02/13/2013.

All other information in the original declaration remains unchanged.

(Catalog of Federal Domestic Assistance Numbers 59002 and 59008)

James E. Rivera,
Associate Administrator for Disaster Assistance.

[FR Doc. 2013-01214 Filed 1-22-13; 8:45 am]

BILLING CODE 8025-01-P